DEPARTMENT OF COMMERCE

National Oceanic and Atmospheric Administration

RIN 0648-XG185

North Pacific Fishery Management Council; Public Meeting

AGENCY: National Marine Fisheries Service (NMFS), National Oceanic and Atmospheric Administration (NOAA), Commerce.

ACTION: Notice of public meeting.

SUMMARY: The North Pacific Fishery Management Council (Council) Electronic Monitoring Workgroup (EMWG) will hold a public meeting on May 15, 2018.

DATES: The meeting will be held on Tuesday, May 15, 2018, from 8:15 a.m. to 5:30 p.m.

ADDRESSES: The meeting will be held in the Traynor Room, Building 4 at the Alaska Fisheries Science Center, 7700 Sand Point Way NE, Seattle, WA 98115. Teleconference available upon request.

Council address: North Pacific Fishery Management Council, 605 W 4th Ave., Suite 306, Anchorage, AK 99501-2252; telephone (907) 271-2809.

FOR FURTHER INFORMATION CONTACT: Elizabeth Figus, Council staff; telephone: (907)-271-2801.

SUPPLEMENTARY INFORMATION:

Agenda

Tuesday, May 15, 2018

The first half of the day is expected to focus on discussing the fixed gear EM program, including: (a) Budget and funding; (b) coordination of funding sources; (c) an update on 2018 EM implementation; (d) updates about progress on pot gear issues; and, (e) discussion about the future of fixed gear implementation. The second half of the day will focus on the trawl EM program, including: (f) An overview of EM Workgroup cooperative approach; (g) summary of ongoing work relevant to trawl; (h) funding issues; (i) trawl EM objectives; (j) developing a workplan and timing for future EMWG meetings; and, (k) a discussion of scheduling and other issues. The Agenda is subject to change, and the latest version will be posted at http://www.npfmc.org/observer-program/.

Public Comment

Public comment letters will be accepted and should be submitted either electronically to Elizabeth Figus, Council staff: Elizabeth.figus@noaa.gov or through the mail: North Pacific Fishery Management Council, 605 W 4th Ave., Suite 306, Anchorage, AK 99501-2252. In-person oral public testimony will be accepted at the discretion of the chair.

Special Accommodations

These meetings are physically accessible to people with disabilities. Requests for sign language interpretation or other auxiliary aids should be directed to Shannon Gleason at (907) 271-2809 at least 7 working days prior to the meeting date.

Dated: April 19, 2018.
Tracey L. Thompson,
Acting Deputy Director, Office of Sustainable Fisheries, National Marine Fisheries Service.

[FR Doc. 2018-08501 Filed 4-23-18; 8:45 am]

BILLING CODE 3510-22-P